DEPARTMENT OF DEFENSE

Department of the Air Force

Notice of Intent (NOI) To Prepare Environmental Impact Statement (EIS) on the Relocation of the C-5 Formal Training Unit (FTU) From Altus Air Force Base (AFB), OK

AGENCY: Air Force Reserve Command, United States Air Force, DoD.

ACTION: Notice of intent.

SUMMARY: Pursuant to the National Environmental Policy Act (NEPA) of 1969, as amended (42 U.S.C. 4321, et seq.), the Council on Environmental Quality (CEQ) Regulations for Implementing the Procedural Provisions of NEPA (40 CFR Parts 1500-1508), and Air Force policy and procedures (32 CFR Part 989), the Air Force is issuing this notice to advise the public of its intent to prepare an EIS to assess the potential environmental impacts of a proposal to relocate a C-5 FTU from Altus AFB to Lackland AFB, Texas.

The number of personnel and aircraft operations is expected to increase with the realignment of the FTU mission at the gaining installation. The Air Force proposes construction of three facilities to support the relocation of the C-5 training mission to Lackland AFB. Construction projects include: (1) A new training schoolhouse, (2) a training load assembly facility, and (3) adding and/or altering the Aircraft Generation Facility. The Air Force will consider all environmental issues supporting relocation, however, the Air Force has currently identified air quality and noise as issues requiring detailed analysis. Under the No Action Alternative, the C-5 FTU mission would not be transferred. The AF would continue to conduct its C-5 training mission using its current, existing facilities.

The Air Force will host a scoping meeting located in KellyUSA at the Kelly Field Club, 205 Mabry, Building 1676, San Antonio Texas from 7 to 9 p.m., on Tuesday, June 15, 2004. Oral and written comments presented at the public meetings, as well as written comments received by the Air Force during this scoping period and throughout the environmental impact analysis process, will be considered in the preparation of the EIS. To ensure the Air Force has sufficient time to consider public input in the preparation of the Draft EIS, comments or questions, regarding this proposal or EIS, from the public should be submitted by Friday, June 25, 2004.

Point of Contact: Please direct any written comments or requests for information to Ms. Julia Cantrell, HQ AFCEE/ISM, 3300 Sydney Brooks Road, Brooks City-Base, TX 78235-5112 (PH: 210.536.3515).

Pamela Fitzgerald,
Air Force Federal Register Liaison Officer.

[FR Doc. 04-10654 Filed 5-10-04; 8:45 am]

BILLING CODE 5001-05-P